DEPARTMENT OF ENERGY

Federal Energy Regulatory Commission

[Docket No. PF15-20-000]

Rio Bravo Pipeline Company, LLC; Rio Grande LNG, LLC; Notice of Intent To Prepare an Environmental Impact Statement for the Planned Rio Grande LNG Project and Rio Bravo Pipeline Project, Request for Comments on Environmental Issues, and Notice of Public Scoping Meeting

The staff of the Federal Energy Regulatory Commission (FERC or Commission) will prepare an environmental impact statement (EIS) that will discuss the environmental impacts of the Rio Grande LNG Project and Rio Bravo Pipeline Project (Rio Grande LNG Project) involving construction and operation of natural gas pipeline and liquefaction facilities by Rio Grande LNG, LLC, and Rio Bravo Pipeline Company, LLC, collectively the Rio Grande Developers (RG Developers), in Kleberg, Kenedy, Willacy, and Cameron Counties, Texas. The Commission will use this EIS in its decision-making process to determine whether the project is in the public interest.

This notice announces the opening of the scoping process the Commission will use to gather input from the public and interested agencies on the project. You can make a difference by providing us with your specific comments or concerns about the project. Your comments should focus on the potential environmental effects, reasonable alternatives, and measures to avoid or lessen environmental impacts. Your input will help the Commission staff determine what issues they need to evaluate in the EIS. To ensure that your comments are timely and properly recorded, please send your comments so that the Commission receives them in Washington, DC on or before August 24, 2015.

If you sent comments on this project to the Commission before the opening of this docket on March 20, 2015, you will need to file those comments in Docket No. PF15-20-000 to ensure they are considered as part of this proceeding.

This notice is being sent to the Commission's current environmental mailing list for this project. State and local government representatives should notify their constituents of this planned project and encourage them to comment on their areas of concern.

If you are a landowner receiving this notice, a pipeline company representative may contact you about the acquisition of an easement to construct, operate, and maintain the planned facilities. The company would seek to negotiate a mutually acceptable agreement. However, if the Commission approves the project, that approval conveys with it the right of eminent domain. Therefore, if easement negotiations fail to produce an agreement, the pipeline company could initiate condemnation proceedings where compensation would be determined in accordance with state law.

A fact sheet prepared by the FERC entitled “An Interstate Natural Gas Facility On My Land? What Do I Need To Know?” is available for viewing on the FERC Web site (www.ferc.gov). This fact sheet addresses a number of typically asked questions, including the use of eminent domain and how to participate in the Commission's proceedings.

Public Participation

For your convenience, there are four methods you can use to submit your comments to the Commission. The Commission will provide equal consideration to all comments received, whether filed in written form or provided verbally. The Commission encourages electronic filing of comments and has expert staff available to assist you at (202) 502-8258 or efiling@ferc.gov. Please carefully follow these instructions so that your comments are properly recorded.

(1) You can file your comments electronically using the eComment feature on the Commission's Web site (www.ferc.gov) under the link to Documents and Filings. This is an easy method for submitting brief, text-only comments on a project;

(2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to reference the project docket number (PF15-20-000) with your submission: Kimberly D. Bose, Secretary, Federal Energy Regulatory Commission, 888 First Street NE., Room 1A, Washington, DC 20426.

(4) In lieu of sending written or electronic comments, the Commission invites you to attend one of the public scoping meetings its staff will conduct in the project area, scheduled as follows.

FERC Public Scoping Meetings Rio Grande LNG Project
Date and time | Location
Monday, August 10, 2015, 3:00-8:00 p.m | Raymondville High School Auditorium, 419 FM 3168, Raymondville, TX 78580, (956) 689-8170.
Tuesday, August 11, 2015, 12:00-8:00 p.m | Port Isabel Event and Cultural Center, 309 E. Railroad St., Port Isabel, TX 78578, (956) 943-0719.
Thursday, August 13, 2015, 3:00-8:00 p.m | Helen Kleberg Community Center, 230 W. Yoakum Ave, Kingsville, TX 78363, (361) 592-8021.

You may attend at any time during the meetings, as the primary goal of a scoping meeting is for us to have your verbal environmental concerns documented. There will not be a formal presentation by Commission staff, but FERC staff will be available to answer your questions about the FERC environmental review process. Representatives of the RG Developers will also be present to answer questions about the project.

For your convenience, FERC staff will hold a joint scoping meeting on Tuesday, August 11, for the Rio Grande LNG Project, the Texas LNG Brownsville LNG Project (PF15-14), and Annova LNG Brownsville Project (PF15-15). This joint scoping meeting will give you the opportunity to provide your verbal comments on one or all three of the planned liquefied natural gas (LNG) export projects along the Brownsville Ship Channel currently in our pre-filing process. In addition to the RG Developers, representatives from the Texas LNG Brownsville LNG Project and Annova LNG Brownsville Project will be present at the joint scoping meeting on Tuesday to answer questions about their respective projects.

Verbal comments will be recorded by a stenographer and transcripts will be placed into the appropriate docket(s) for the project, and made available for public viewing on FERC's eLibrary system (see page 8 “Additional Information” for instruction on using eLibrary). It is important to note that verbal comments hold the same weight as written or electronically submitted comments. If a significant number of people are interested in providing verbal comments, a time limit of 3 to 5 minutes may be implemented for each commenter to ensure all those wishing to comment have the opportunity to do so within the designated meeting time. Time limits will be strictly enforced if they are implemented.

Please note this is not your only public input opportunity; please refer to the review process flow chart in appendix 1.¹

¹ The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

Summary of the Planned Project

The RG Developers plan to construct and operate interrelated LNG terminal and natural gas infrastructure projects. The Rio Grande LNG Terminal (Terminal) would involve an LNG export terminal and marine facilities to accommodate LNG vessels along the Brownsville Ship Channel in Cameron County, Texas. The Rio Bravo Pipeline Project would include two new natural gas pipelines capable of transporting 4.5 billion cubic feet per day (bcf/d) of natural gas from Kleberg County, Texas, to the planned Terminal. The Rio Grande LNG Project would be constructed in two phases and, when complete, would export the LNG equivalent of about 3.8 bcf/d of natural gas. According to the RG Developers, their project would provide an additional source of firm, long-term, and competitively priced liquefied natural gas.

The Rio Grande LNG Project would consist of the following facilities:

• An export liquefaction terminal that includes:

○ Six liquefaction trains and natural gas treatment facilities;

○ a marine facility, including two LNG berths and a turning basin;

○ a 600-megawatt electrical power generation station;

○ truck loading/unloading facilities for LNG, natural gas liquid condensate, and refrigerant;

○ a marine construction dock; and

○ four full-containment LNG storage tanks;

• two parallel 140-mile-long, 42-inch-diameter pipelines extending northerly from the Terminal to Kleberg County, Texas;

• three compressor stations;

• two meter stations;

• multiple pipeline interconnects with third-party pipelines;

• mainline valves;

• pig launcher and receiver facilities; ² and

² A “pig” is a tool that the pipeline company inserts into and pushes through the pipeline for cleaning the pipeline, conducting internal inspections, or other purposes.

• other pipeline-related facilities (e.g., access roads, contractor and pipe yards).

The general location of the project facilities is shown in appendix 2.

Land Requirements for Construction

Construction and operation of the planned Terminal would disturb about 750 acres of land within a 1,000-acre parcel to accommodate the liquefaction facilities, marine berth, and turning basin. The RG Developers are assessing the total land requirements for construction of the planned pipelines but currently plan to maintain a permanent easement of up to 120 feet centered on the pipelines; the remaining acreage would be restored and would revert to former uses. About 64 percent of the planned pipeline routes parallel existing pipeline, utility, or road rights-of-way.

The EIS Process

The National Environmental Policy Act (NEPA) requires the Commission to take into account the environmental impacts that could result from an action whenever it considers the issuance of a Certificate of Public Convenience and Necessity. NEPA also requires us ³ to discover and address concerns the public may have about proposals. This process is referred to as scoping. The main goal of the scoping process is to focus the analysis in the EIS on the important environmental issues. By this notice, the Commission requests public comments on the scope of the issues to address in the EIS. We will consider all filed comments during the preparation of the EIS.

³ “We,” “us,” and “our” refer to the environmental staff of the Commission's Office of Energy Projects.

In the EIS we will discuss impacts that could occur as a result of the construction and operation of the planned project under these general headings:

• Geology and soils;

• land use;

• water resources, fisheries, and wetlands;

• cultural resources;

• vegetation and wildlife;

• air quality and noise;

• endangered and threatened species;

• socioeconomics;

• public safety; and

• cumulative impacts.

We will also evaluate possible alternatives to the planned project or portions of the project, and make recommendations on how to lessen or avoid impacts on the various resource areas.

Although no formal application has been filed, we have already initiated our NEPA review under the Commission's pre-filing process. The purpose of the pre-filing process is to encourage early involvement of interested stakeholders and to identify and resolve issues before the FERC receives an application. As part of our pre-filing review, we have begun to contact some federal and state agencies to discuss their involvement in the scoping process and the preparation of the EIS.

The EIS will present our independent analysis of the issues. We will publish and distribute the draft EIS for public comment. After the comment period, we will consider all timely comments and revise the document, as necessary, before issuing a final EIS. To ensure we have the opportunity to consider and address your comments, please carefully follow the instructions in the Public Participation section, beginning on page 2.

With this notice, we are asking agencies with jurisdiction by law and/or special expertise with respect to the environmental issues related to this project to formally cooperate with us in the preparation of the EIS.⁴ Agencies that would like to request cooperating agency status should follow the instructions for filing comments provided under the Public Participation section of this notice.

⁴ The Council on Environmental Quality regulations addressing cooperating agency responsibilities are at Title 40, Code of Federal Regulations, Part 1501.6.

Consultations Under Section 106 of the National Historic Preservation Act

In accordance with the Advisory Council on Historic Preservation's implementing regulations for section 106 of the National Historic Preservation Act, we are using this notice to initiate consultation with the Texas State Historic Preservation Office, and to solicit their views and those of other government agencies, interested Indian tribes, and the public on the project's potential effects on historic properties.⁵ We will define the project-specific Area of Potential Effects (APE) in consultation with the SHPO as the project develops. On natural gas facility projects, the APE at a minimum encompasses all areas subject to ground disturbance (examples include construction right-of-way, contractor/pipe storage yards, compressor stations, and access roads). Our EIS for this project will document our findings on the impacts on historic properties and summarize the status of consultations under section 106.

⁵ The Advisory Council on Historic Preservation regulations are at Title 36, Code of Federal Regulations, Part 800. Those regulations define historic properties as any prehistoric or historic district, site, building, structure, or object included in or eligible for inclusion in the National Register of Historic Places.

Currently Identified Environmental Issues

We have already identified several issues that we think deserve attention based on a preliminary review of the planned facilities, comments received by the public to date, and the environmental information provided by RG Developers. This preliminary list of issues may change based on your comments and our analysis.

• Public health and safety;

• air quality;

• special status species, including the ocelot and aplomado falcon;

• biological diversity and wildlife preserves, including the Laguna Atascosa National Wildlife Refuge, and the Lower Rio Grande Valley National Wildlife Refuge;

• impacts on vegetation and habitat, including wetlands;

• economic impacts on fishing and tourism industries;

• environmental justice;

• visual impacts of the Terminal; and

• cumulative effects, including the effects of multiple planned LNG projects along the Brownsville Ship Channel.

Environmental Mailing List

The environmental mailing list includes federal, state, and local government representatives and agencies; elected officials; environmental and public interest groups; Native American tribes; other interested parties; and local libraries and newspapers. This list also includes all affected landowners (as defined in the Commission's regulations) who are potential right-of-way grantors, whose property may be used temporarily for project purposes, or who own homes within certain distances of aboveground facilities, and anyone who submits comments on the project. We will update the environmental mailing list as the analysis proceeds to ensure that we send the information related to this environmental review to all individuals, organizations, and government entities interested in and/or potentially affected by the planned project.

Copies of the completed draft EIS will be sent to the environmental mailing list for public review and comment. If you would prefer to receive a paper copy of the document instead of the CD version or would like to remove your name from the mailing list, please return the attached Information Request (appendix 3).

Becoming an Intervenor

Once the RG Developers file their application with the Commission, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site. Please note that the Commission will not accept requests for intervenor status at this time. You must wait until the Commission receives a formal application for the project.

Additional Information

Additional information about the project is available from the Commission's Office of External Affairs, at (866) 208-FERC, or on the FERC Web site (www.ferc.gov) using the eLibrary link. Click on the eLibrary link, click on “General Search” and enter the docket number, excluding the last three digits in the Docket Number field (i.e., PF15-20). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Finally, public meetings or site visits will be posted on the Commission's calendar located at www.ferc.gov/EventCalendar/EventsList.aspx along with other related information.

Dated: July 23, 2015.
Kimberly D. Bose,
Secretary.

[FR Doc. 2015-18684 Filed 7-29-15; 8:45 am]

BILLING CODE 6717-01-P